DEPARTMENT OF THE TREASURY

Internal Revenue Service

Proposed Information Collection; Comment Request for Regulation Project

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995. IRS is soliciting comments concerning Rulings and determination letters.

DATES: Written comments should be received on or before February 12, 2018 to be assured of consideration.

ADDRESSES: Direct all written comments to T. Pinkston, Internal Revenue Service, Room 6526, 1111 Constitution Avenue NW, Washington, DC 20224.

FOR FURTHER INFORMATION CONTACT: Please send separate comments for each specific information collection listed below. You must reference the information collection's title, form number, reporting or record-keeping requirement number, and OMB number (if any) in your comment. Requests for additional information, or copies of the information collection and instructions, or copies of any comments received, contact Elaine Christophe, at (202) 317-5745, at Internal Revenue Service, Room 6526, 1111 Constitution Avenue NW, Washington, DC 20224, or through the internet, at Elaine.H.Christophe@irs.gov.

SUPPLEMENTARY INFORMATION:

Title: Revenue Procedure 2017-52; 2017-1; 2017-3, Rulings and determination letters—26 CFR 601-.201.

OMB Number: 1545-1522.

Form Number: Revenue Procedure 2017-52; 2017-1; 2017-3.

Abstract: Revenue Procedure 2017-1 and 2017-3 explain how the Service provides advice to taxpayers on issues under the jurisdiction of the Associate Chief Counsel (Corporate), the Associate Chief Counsel (Financial Institutions and Products), the Associate Chief Counsel (Income Tax and Accounting), the Associate Chief Counsel (International), the Associate Chief Counsel (Passthroughs and Special Industries), the Associate Chief Counsel (Procedure and Administration), and the Associate Chief Counsel (Tax Exempt and Government Entities). It explains the forms of advice and the manner in which advice is requested by taxpayers and provided by the Service. Rev. Proc. 2017-52 (1) introduces a pilot program expanding the scope of letter rulings available from the Internal Revenue Service (Service) to include rulings on the tax consequences of a distribution of stock and securities of a controlled corporation under § 355 for a specified period of time (see section 6 of this revenue procedure), (2) provides procedures for taxpayers requesting these rulings, and (3) clarifies procedures for taxpayers requesting rulings on significant issues relating to these transactions.

Current Actions: This information collection is being updated with 2017-52, 2017-1 and 2017-3. The paperwork burden previously approved by OMB is also being updated.

Type of Review: Review of a currently approved collection.

Affected Public: Businesses and other for profits.

Estimated Number of Respondents: 3,986.

Estimated Time per Respondent: 81.89 hours.

Estimated Total Annual Burden Hours: 326,436.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in our request for Office of Management and Budget (OMB) approval of the relevant information collection. All comments will become a matter of public record. Please do not include any confidential or inappropriate material in your comments.

We invite comments on: (a) Whether the collection of information is necessary for the proper performance of the agency's functions, including whether the information has practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide the requested information.

Approved: December 6, 2017.
T. Pinkston,
Senior Tax Analyst.

[FR Doc. 2017-26876 Filed 12-12-17; 8:45 am]

BILLING CODE 4830-01-P